DEPARTMENT OF HEALTH AND HUMAN SERVICES

National Institutes of Health

Center for Scientific Review Amended; Notice of Meeting

Notice is hereby given of a change in the meeting of the Center for Scientific Review Special Emphasis Panel, PAR15-162: Pilot Clinical Urology, October 22, 2015, 04:00 p.m. to October 22, 2015, 05:00 p.m., Crowne Plaza Washington National Airport, 1489 Jefferson Davis Hwy, Arlington, VA 22202 which was published in the Federal Register on September 18, 2015, 80 FR 56476.

The meeting will be held at the National Institutes of Health, 6701 Rockledge Drive, Bethesda, MD 20892. The meeting will start on November 23, 2015 at 2:00 p.m. and end at 3:30 p.m. The meeting is closed to the public.

Dated: October 30, 2015.
Anna Snouffer,
Deputy Director, Office of Federal Advisory Committee Policy.

[FR Doc. 2015-28228 Filed 11-4-15; 8:45 am]

BILLING CODE 4140-01-P